DEPARTMENT OF HOMELAND SECURITY

[Docket No. USCIS-2025-0337]

Privacy Act of 1974; System of Records

AGENCY: U.S. Department of Homeland Security, U.S. Citizenship and Immigration Services.

ACTION: Notice of a modified system of records.

SUMMARY: In accordance with the Privacy Act of 1974, the Department of Homeland Security (DHS) proposes to modify and reissue a DHS system of records notice (SORN) titled, “Department of Homeland Security/U.S. Citizenship and Immigration Services (USCIS)-004 Systematic Alien Verification for Entitlements Program (SAVE).” As described in this modified SORN, USCIS, an agency within DHS, collects and maintains records on applicants for public benefits, licenses, grants, governmental credentials, and other statutorily authorized purposes through the SAVE program. SAVE allows registered user agencies to verify the immigration status/category (“immigration status”) and U.S. citizenship (including for U.S. citizens by birth, naturalized and certain acquired citizens) of individuals applying for or receiving a public benefit, license or other authorized purpose (“benefit”). “Acquired citizenship” refers to U.S. citizenship conveyed to children through the naturalization of parents or, under certain circumstances, at birth to foreign-born children of U.S. citizens, provided certain conditions are met. DHS/USCIS is updating this SORN to include updates and modifications to the (1) purpose(s) of the system, (2) categories of individuals covered by the system, (3) categories of records in the system, (4) records source categories, and (5) routine uses of records maintained in the system. Additionally, this notice includes non-substantive changes to simplify the formatting and text of the previously published notice. This modified system will be included in DHS's inventory of record systems.

DATES: Submit comments on or before December 1, 2025. This modified system will be effective upon publication. New or modified routine uses will be effective December 1, 2025.

ADDRESSES: You may submit comments, identified by docket number USCIS-2025-0337 by one of the following methods:

• Federal e-Rulemaking Portal: http://www.regulations.gov. Follow the instructions for submitting comments.

• Fax: 202-343-4010.

• Mail: Roman Jankowski, Chief Privacy Officer, Privacy Office, Department of Homeland Security, Washington, DC 20528-0655.

Instructions: All submissions received must include the agency name and docket number USCIS-2025-0337. All comments received will be posted without change to http://www.regulations.gov, including any personal information provided.

Docket: For access to the docket to read background documents or comments received, go to http://www.regulations.gov.

FOR FURTHER INFORMATION CONTACT: For general questions, please contact: Angela Y. Washington, 240-721-3705, Privacy Officer, U.S. Citizenship and Immigration Services, USCIS Headquarters, 5900 Capital Gateway Dr., Camp Springs, MD 20746. For privacy questions, please contact: Roman Jankowski, (202) 343-1717, Chief Privacy Officer, Privacy Office, Department of Homeland Security, Washington, DC 20528-0655.

SUPPLEMENTARY INFORMATION:

I. Background

In accordance with the Privacy Act of 1974, 5 U.S.C. 552a, the Department of Homeland Security (DHS), U.S. Citizenship and Immigration Services (USCIS) is proposing to modify and reissue a current DHS SORN titled, “DHS/USCIS-004 Systematic Alien Verification for Entitlements Program System of Records.”

This modified SORN is being published to update the purpose of SAVE to include the addition of expanded search functionality for registered SAVE user agencies to verify the U.S. citizenship of U.S. citizens by birth and to clarify use of SAVE for voter verification.

This SORN modification also clarifies and informs the public that SAVE has removed transaction charges for all state, local, tribal, and territorial government agencies that use the system. Federal agencies are still charged a fee to use SAVE.

DHS/USCIS is adding individuals that are U.S. citizens by birth to the categories of individuals covered by the system.

DHS/USCIS is updating the categories of records in the system to include collecting both full and truncated (last four digits) Social Security number (other than those collected on Form G-845, Verification Request), U.S. passport number, driver's license number, and information from the Social Security Administration.

DHS/USCIS is revising the record source categories to add SSA-60-0058 Master Files of Social Security Number Holders, Social Security Number Applications, February 20, 2025 (90 FR 10025) and state or other national agencies that issue or maintain driver's license information.

DHS/USCIS is amending the routine uses section of the SORN to include adding Routine Use L, to support sharing with Social Security Administration and other federal organizations, and Routine Use M, to support sharing with federal agencies (e.g., the Department of Health and Human Services) to support auditing of federal programs administered by state, local, and tribal governments (e.g., Medicaid).

Additionally, this notice includes non-substantive changes, including reorganizing of categories of records, change in the use of terms such as from “derived” citizen/citizenship to “acquired” citizen/citizenship, and spelling out of form names from the previously published system of records notice.

Consistent with DHS's information sharing mission, information stored in DHS/USCIS SAVE may be shared with other DHS Components that have a need to know of the information to carry out their national security, law enforcement, immigration, intelligence, or other homeland security functions. In addition, DHS/USCIS may share information with appropriate federal, state, local, tribal, territorial, foreign, or international government agencies consistent with the routine uses set forth in this system of records notice. Information in SAVE, including records submitted by the user agency, is not to be used for administrative (non-criminal) immigration enforcement purposes. See Immigration Reform and Control Act (IRCA), Public Law 99-603, Part C, Section 121(c)(1) (Nov. 6, 1986).

This modified system will be included in DHS's inventory of record systems. USCIS administers SAVE. SAVE is an online intergovernmental service designed to help federal, state, territorial, tribal, local government agencies, benefit-granting agencies, other authorized entities (e.g., Airport Operators under the Federal Aviation Administration (FAA) Extension, Safety and Security Act of 2016), and licensing bureaus, as authorized by law (collectively, “SAVE user agencies”), determine the U.S. citizenship and immigration status of individuals within their jurisdiction for the purpose of granting benefits, licenses, and other lawful purposes. Uses of SAVE may include verification of immigration status or category and U.S citizenship, including U.S. citizens by birth as well as naturalized and certain acquired citizens, when issuing benefits such as Social Security numbers, public health care, Supplemental Nutrition Assistance Program payments, Temporary Assistance for Needy Families, Medicaid, Children's Health Insurance Program; conducting background investigations, armed forces recruitment, REAL ID compliance; or any other purpose authorized by law, including verification of registrants and registered voters in voter registration and voter list maintenance processes. Prior to accessing SAVE, an agency must register as a user and enter into a Memorandum of Agreement with DHS/USCIS. The prospective user provides the legal authorities requiring or permitting verification of immigration status or U.S. citizenship as part of issuing a benefit. SAVE does not determine a benefit applicant's eligibility for a specific benefit. Only the user agency makes that determination.

A typical SAVE verification involves a registered federal, state, territorial, tribal, or local government benefit or license-granting agency verifying the immigration status or U.S. citizenship of a benefit applicant. SAVE is not a database for immigration status and citizenship information. Rather, SAVE accesses the USCIS Verification Data Integration Service which searches multiple government databases or systems to provide a SAVE response. The initial SAVE response is derived from information contained in government systems accessed by SAVE using information from U.S. government-issued documents, such as a Social Security card, Permanent Resident Card (often referred to as a Green Card) or an Employment Authorization Document. For a SAVE user agency to create a SAVE case, the agency must collect and enter certain identifiers from the benefit applicant's identity document(s). The verification process is driven by identifiers generally located on immigration documents (e.g., Alien Registration Number (Alien Number or A-Number)/USCIS Number, Card Number/I-797 Receipt Number, or Citizenship/Naturalization Certificate Number) or other government-issued documents (e.g., a Social Security number). The identifier presented by the individual determines the verification process.

SAVE user agencies input data elements pertaining to the applicant through SAVE. SAVE then connects to the internal USCIS Verification Data Integration Service to process the request using the user agency provided data. These data elements may include last name, first name, middle name, date of birth, Social Security number, passport number, driver's license number, one or more DHS immigration enumerators (e.g., Alien Registration Number/USCIS Number, Arrival-Departure Record I-94 Number, Student and Exchange Visitor Information System Identification Number, Certificate of Naturalization Number, Certificate of Citizenship Number, or Unexpired Foreign Passport Number), and other information from immigration documentation (e.g., country of birth, date of entry, or employment authorization category). If the USCIS Verification Data Integration Service locates a corresponding record, it will convey a response to SAVE, and SAVE will send a SAVE case response that includes the data elements used to create the case. It may add one or more additional data elements such as a verification case number, U.S. citizenship or immigration data (e.g., U.S. citizenship, immigration status or category, immigration class of admission and/or employment authorization.), grant date, and sponsorship data. SAVE's responses are based upon the user agency's authority to use SAVE and the type of benefit administered by the user agency.

If SAVE is unable to provide an initial automated response verifying the benefit applicant's immigration status or U.S. citizenship, SAVE will provide instructions on actions the user agency may take, including requesting additional verification. Users may also request additional verification when they have questions about a SAVE response or when requested by the benefit applicant. SAVE additional verification procedures generally entail in-depth electronic and manual research in available records (including both electronic records as well as paper Alien Files (A-Files), when necessary) by USCIS status verification staff to verify the benefit applicant's immigration status or U.S. citizenship.

On January 20, 2025, and March 25, 2025, respectively, the President issued Executive Orders 14159, Protecting the American People Against Invasion and 14248, Preserving and Protecting the Integrity of American Elections. Executive Order 14159 requires the Secretary to “promptly issue guidance to ensure maximum compliance by [DHS] personnel with the provisions of 8 U.S.C. 1373 and 8 U.S.C. 1644 and ensure that state and local governments are provided with the information necessary to fulfill law enforcement, U.S citizenship, or immigration status verification requirements authorized by law.” Executive Order 14248 provides:

. . . Federal laws, such as the National Voter Registration Act (Pub. L. 103-31) and the Help America Vote Act (Pub. L. 107-252), require States to maintain an accurate and current Statewide list of every legally registered voter in the State. And the Department of Homeland Security is required to share database information with States upon request so they can fulfill this duty. See 8 U.S.C. 1373(c).

Executive Order 14159 directs the Secretary to “ensure that state and local officials have, without the requirement of the payment of a fee, access to appropriate systems for verifying the citizenship or immigration status of individuals registering to vote or who are already registered.”

Pursuant to these Executive Orders, DHS personnel must timely provide verification of U.S. citizenship and immigration status information in response to inquiries from federal, state, and local government agencies to verify or ascertain the U.S. citizenship or immigration status of individuals within the jurisdiction of the State or local government agency for any purpose authorized by law. DHS personnel will comply with these requirements, to the maximum extent possible and permissible under law, considering federal statutory requirements, including the Privacy Act of 1974, 5 U.S.C. 552a and 8 U.S.C. 1367 (special protected class information); as well as other applicable laws, rules, regulations, policies, and requirements regarding verification, information sharing, and confidentiality.

To respond to these requirements, USCIS has incorporated a feature to allow SAVE user agencies to create a SAVE case using a full or partial Social Security number and other government-issued enumerators (e.g., passport number; driver's license number). This allows SAVE user agencies to utilize enumerators that are often more readily available and to verify U.S. citizenship for individuals who do not have an immigration enumerator.

1. Enumerators and Source Systems

a. Social Security Number (Social Security Administration Enumeration System)

When creating a case in SAVE, the user agency must always enter the individual's first and last name, date of birth, and at least one enumerator, which may now include a full 9-digit or partial Social Security number. The ability to create a SAVE case using a full or partial Social Security number is initially limited to users who log into SAVE via a web browser but will eventually be expanded to user agencies who use a system-to-system connection with SAVE via web services.

Where a user uses a full or partial Social Security number to create a SAVE case, USCIS now provides this information to the Social Security Administration Enumeration System for search and response. The Social Security Administration provides the following responses to USCIS:

• Social Security number match (True/False);

• Name match (True/False);

• Date of birth match (True/False);

• Citizenship indicator;

○ “A”—U.S. Citizen;

○ “B”—Legal alien, eligible to work;

○ “C”—Legal alien, not eligible to work;

○ “D”—Other;

○ “E”—Alien Student—restricted work authorized; and

○ “F”—Conditionally legalized alien.

• Foreign born indicator (Citizenship code is not present, but individual was foreign born);

• State/Country code;

• American Samoa indicator (True/False);

• Alien Registration Number (Alien Number or A-Number) (where applicable);

• Death indicator (Yes/No); and

• Error code descriptions (transaction and record levels).

This search functionality allows SAVE the capability to verify the Social Security number and U.S. citizen indicators of many U.S. citizens by birth, as found in the Enumeration System. This is an expansion from the previous SAVE functionality, which limited U.S. citizenship verification to DHS records of naturalized and certain acquired U.S. citizens.

b. U.S. Passport Number (Department of State)

SAVE has added the ability for user agencies to verify acquired citizenship for individuals using a search by name, date of birth, and passport number. USCIS will compare this information against information available in DHS-accessed systems to provide a match or no match response. Prior to having access to passport records, SAVE could only verify acquired U.S. citizens if the individual applied for and received a Certificate of Citizenship from USCIS or if the U.S. Department of State provided USCIS with a record of the passport citizenship adjudication and, if applicable, USCIS will update the individual's record.

c. Driver's License Number (State Records)

Driver's licenses are the most widely used form of identification. By working with state driver's licensing agencies and national agencies that store driver's license information for legal purposes (such as the National Law Enforcement Telecommunications System (NLETS)), SAVE will use driver's license and state identification card numbers to check and confirm identity information. When the agency provides a driver's license or state identification card number as the enumerator to verify the identity of the applicant, SAVE will use state driver's licensing agencies or another source (such as NLETS) to validate the information and gain access to other government enumerators. This will allow SAVE to match against other sources to verify immigration status and U.S. citizenship, which will improve accuracy and efficiency for SAVE user agencies. It must be noted that the Driver's license number search functionality is not live at the time of publication but will be in the foreseeable future.

2. List Processor Feature

User agencies now have the capability to create cases in SAVE by uploading a file with a list of multiple cases. This provides greater efficiency, because the user agency no longer has to enter cases into SAVE one at a time. Initially, only users who log into SAVE using a web browser will have access to this feature, but USCIS may extend this feature to other users in the future.

After file upload and acceptance of the data, SAVE, through an automated process, creates front-end single-record cases for each entry; this is not batch processing but SAVE creating each case individually for the user agency. Initially, the creation of cases using this feature is limited to cases created using an Alien Registration Number, Citizenship or Naturalization Certificate number, or Social Security number. Agencies are not prompted to institute additional verification when using this process but are instructed to resubmit with additional information when the process is unable to return a response. Expansion of this feature in the future may include the ability to create cases with additional enumerators and the ability to request configured information not automatically selected for the benefit type.

User agencies can access each case created using the list processor feature in SAVE as normal, by viewing the individual case status and response. SAVE also has a feature available to all user agencies to generate a report that will list all the cases created, the status of an individual case, and the SAVE response. Access to generate the report, including what cases are included, vary depending upon the user's permissions. USCIS provides this verification service for all benefit requests.

3. Auditing Verification Records To Support Oversight Organizations

SAVE will support organizations that have entered into required agreements with USCIS and have legal oversight authority over a program or benefit type supported by SAVE through reporting capabilities for auditing purposes. User agencies with a legal authority to monitor and audit benefits granted or voter registration records may view relevant case data such as biographic data, enumerators, case submission date/time, and SAVE response information. Reporting options exist for individual user agencies and their case data.

Additionally, user agencies with appropriate legal authority may now view, within SAVE, other user agencies' case data through a linking mechanism based on either benefit type granted (e.g., Medicare) or by state. This new account type will have reporting options to view case data.

Other account types enable user agencies to create cases within SAVE to verify applicants' current eligibility for benefits previously granted. This will allow organizations, such as federal and state oversight agencies, to ensure user agencies that they legally monitor, and audit are properly verifying immigration status or citizenship status before making an eligibility determination and to ensure previously approved applicants remain eligible for the benefits they are receiving.

4. Voter Registration and Voter List Maintenance

Through this SORN, DHS/USCIS is administratively clarifying the purpose of this system of records by reinserting voter registration that was previously published in 76 FR 58525 (September 21, 2011) and updating to the term “voter verification” to include verification of U.S. citizens by birth through Social Security number matching. Also, DHS/USCIS is expanding the purpose to include the additional search functionality to verify the citizenship of U.S. citizens by birth for all registered benefits and licenses by registered SAVE user agencies.

II. Privacy Act

The Privacy Act embodies fair information practice principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. Additionally, and similarly, the Judicial Redress Act provides covered persons with a statutory right to make requests for access and amendment to covered records, as defined by the Judicial Redress Act, along with judicial review for denials of such requests. In addition, the Judicial Redress Act prohibits disclosures of covered records, except as otherwise permitted by the Privacy Act.

Below is the description of the DHS/USCIS-004 SAVE Program System of Records. In accordance with 5 U.S.C. 552a(r), DHS has provided a report of this system of records to the Office of Management and Budget and to Congress.

SYSTEM NAME AND NUMBER:

Department of Homeland Security (DHS)/U.S. Citizenship and Immigration Services (USCIS)-004 Systematic Alien Verification for Entitlements Program System of Records.

SECURITY CLASSIFICATION:

Unclassified

SYSTEM LOCATION:

Records are maintained at the USCIS Headquarters in Camp Springs, MD and at DHS/USCIS field offices. Electronic records for Verification Data Integration Service are stored in a secure, cloud hosted environment.

SYSTEM MANAGER(S):

Chief, Verification Division, SAVE.help@uscis.dhs.gov, U.S. Citizenship and Immigration Services, Department of Homeland Security, 5900 Capital Gateway Drive, Mail Stop 2620, Camp Springs, MD 20588-0009.

AUTHORITY FOR MAINTENANCE OF THE SYSTEM:

Authority for having a system for verification of citizenship and immigration status is found in Immigration and Nationality Act, Public Law 82-414, 66 Stat. 163 (June 27, 1952), as amended, Immigration Reform and Control Act, Public Law 99-603, 100 Stat. 3359 (Nov. 6, 1986); Personal Responsibility and Work Opportunity Reconciliation Act, Public Law 104-193, 110 Stat. 2105 (Aug. 22, 1996); Illegal Immigration Reform and Immigrant Responsibility Act, Public Law 104-208, 110 Stat. 3009 (Sept. 30, 1996); (8 U.S.C. 1373(c)); the REAL ID Act of 2005, Public Law 109-13, 119 Stat. 231 (May 11, 2005); Patient Protection and Affordable Care Act, Public Law 111-148, 124 Stat. 119 (Mar. 23, 2010), as amended by the Health Care and Education Reconciliation Act of 2010, Public Law 111-152, 124 Stat. 1029 (Mar. 30, 2010); and the Federal Aviation Administration (FAA) Extension, Safety, and Security Act of 2016, Public Law 114-190, 130 Stat. 615 (July 15, 2016), 8 CFR part 213a (Affidavits of Support on Behalf of Immigrants).

PURPOSE(S) OF THE SYSTEM:

The purpose of this system is to provide a service (fee-based for federal agencies) that assists federal, state, territorial, tribal, and local benefit-granting agencies, licensing bureaus, and other authorized entities for any legally mandated purpose in accordance with an authorizing statute to verify the U.S. citizenship and immigration status of individual, to include naturalized, derived, and U.S. citizens by birth, within their jurisdiction applying for benefits, and to otherwise efficiently administer their programs, to the extent that such disclosure is necessary to enable these agencies and entities to make decisions related to (1) determining eligibility for a federal, state, territorial, tribal, or local public benefit; (2) issuing a license or grant; (3) issuing a government credential; (4) conducting a background investigation; (5) voter verification or (6) any other lawful purpose. This system is also used for USCIS bond management purposes under section 213 of the Immigration and Nationality Act.

CATEGORIES OF INDIVIDUALS COVERED BY THE SYSTEM:

Categories of individuals covered by this system include: (1) individuals who have filed, for themselves or on the behalf of others, applications or other requests for federal, state, territorial, tribal or local licenses or benefits; (2) individuals who are U.S. citizens, including those who are U.S. citizens by birth, and naturalized or acquired U.S. citizens; (3) individuals who have applied for or received other immigration benefits pursuant to 8 U.S.C. 1103 et seq. or other applicable law; (4) sponsors and household members listed on the Form I-864 or I-864EZ, Affidavit of Support Under C Member; Section 213A of the Act or Form I-864A, Contract Between Sponsor and Household Member; (5) individuals subject to certain background investigations; (6) individuals accessing SAVE Case Check; (7) users and administrators who access the system to facilitate U.S citizenship and immigration status verification; and (8) other individuals whose information is verified with SAVE pursuant to an agreement between a user agency and SAVE (e.g., SAVE Memorandum of Agreement). All references to “sponsor” or “sponsors” include sponsors, joint sponsors, and substitute sponsors, as defined in the regulations at 8 CFR part 213a.

CATEGORIES OF RECORDS IN THE SYSTEM:

Information collected from the benefit applicant by the user agency to facilitate U.S citizenship and immigration status verification may include the following:

• Individual's full name (maiden name if applicable);

• Date of birth;

• Country of birth;

• Citizenship or nationality;

• Alien Registration Number (A-Number)/USCIS number;

• Other immigration number/enumerator (e.g., Employment Authorization Document card number, naturalization certificate number, citizenship certificate number);

• Form I-94, Arrival/Departure Record number;

• Visa number;

• Receipt number/card number;

• Student and Exchange Visitor Information System Identification number;

• Foreign Passport number and country of issuance;

• Social Security number (full and truncated) or other alternate number issued by the SSA (e.g., Individual Tax Identification Number (ITIN);

• U.S Passport number;

• Driver's license number;

• Agency Data Universal Numbering System (DUNS) number;

• Benefit type sought (e.g., background check, driver's license/state identification, education grant/loan/work study, Employment Authorization, housing assistance, Medicaid/Medical Assistance, Social Security number issuance, and voter verification); and

• Copies of original immigration documents.

Information collected from the user agency who accesses the system to facilitate U.S citizenship and immigration status verification may include the following:

• Agency name;

• Address;

• Names of agency points(s) of contact;

• Title of agency point(s) of contact;

• Contact telephone number;

• Fax number;

• Email address;

• User identification; and

• Type of license/benefit(s) the agency issues (e.g., Unemployment Insurance, Educational Assistance, Driver Licensing, and Social Security Enumeration)

Information collected from the Social Security Administration used by SAVE to verify U.S. citizenship or immigration status of an applicant on behalf of a SAVE user agency:

• Social Security number match (True/False);

• Name match (True/False);

• Date of birth match (True/False);

• Death indicator (Yes Deceased/Not Deceased);

• Citizenship indicator;

○ “A”—U.S. citizen;

○ “B”—Legal alien, eligible to work;

○ “C”—Legal alien, not eligible to work;

○ “D”—Other;

○ “E”—Alien student-restricted work authorized; and

○ “F”—Conditionally legalized alien.

• Foreign Born Indicator (Citizenship code is not present, but individual was foreign born);

• Alien Registration Number (Alien Number or A-Number) (where applicable); and

• Error code descriptions (transaction and record levels).

System-generated responses because of the SAVE verification process may include:

• Verification case number; and

• SAVE response.

Information collected from the benefit-granting agency about actions that an agency adjudicating Federal means-tested public benefits takes to deem sponsor income as part of applicant income for purposes of Federal means-tested benefits eligibility and to seek reimbursement from sponsors for the value of benefits provided to sponsored applicants may include:

• Whether the benefit-granting agency approved or denied the application for the means-tested public benefit;

• If the benefit-granting agency denied the application, whether the denial was based upon the information that SAVE provided in its response to the citizenship and immigration status verification request from the benefit-granting agency;

• Whether the benefit-granting agency deemed sponsor/household member income and, if not, the exception or reason for not doing so;

• Whether the benefit-granting agency sent the sponsor a reimbursement request letter (yes/no);

• Whether the sponsor complied with his or her reimbursement obligation; and

• Whether the benefit-granting agency conducted a collection action or other proceedings if the sponsor did not comply with his or her reimbursement obligation (yes/no and if yes, the status, court or forum, and docket or matter number).

Individual information that may be used by SAVE to verify U.S citizenship and immigration status and provide a SAVE response includes:

• Full name;

• Date of birth;

• Country of birth;

• Alien Registration Number (Alien Number or A-Number);

• Social Security number;

• Photograph;

• U.S. passport;

• Driver's license number or State identification number;

• Receipt number/card number (e.g., Form I-551, Lawful Permanent Resident Card, Form I-766, Employment Authorization Document);

• Other unique identifying numbers (e.g., Student and Exchange Visitor Information System Identification number, Form I-94 number, etc.);

• Visa number;

• Government-issued identification (e.g., foreign passport);

○ Document type;

○ Country of issuance (COI);

○ Document number; and

○ Expiration date.

• Entry/Departure date;

• Port of entry;

• Alien status change date;

• Naturalization date;

• Date admitted until;

• Country of citizenship;

• Document grant date;

• Document receipt number;

• Codes (e.g., class of admission, file control office, provision of law cited for employment authorization);

• Employment Authorization Document (EAD) history;

• Beneficiary information (e.g., full name, Alien Registration Number, date of birth, country of birth, Social Security number);

• Petitioner information (e.g., full name, Alien Registration Number, Social Security number, Individual Taxpayer Identification Number, Naturalization Certificate number); and

• Sponsor(s) and household member(s) information (e.g., Full Name, Address, Social Security number).

SAVE may also access immigration case history for other individuals, including:

• Spouse information (e.g., full name, Alien Registration Number, date of birth, country of birth, country of citizenship, class of admission, date of admission, receipt number, phone number, marriage date and location, naturalization date and location);

• Children information (e.g., full name, Alien Registration Number, date of birth, country of birth, class of admission);

• Employer information (e.g., full name, address, supervisor's name, supervisor's phone number); and

• Individuals associated with background checks information (e.g., full name, Alien Registration Number, date of birth, country of birth).

Case history information may include:

• Alert(s);

• Case summary comments;

• Case category;

• Date of encounter;

• Encounter information;

• Custody actions and decisions;

• Case actions and decisions;

• Bonds;

• Photograph;

• Asylum applicant receipt date;

• Airline and flight number;

• Country of residence;

• City (e.g., where boarded, where visa was issued);

• Date visa issued;

• Address in United States;

• Nationality;

• Decision memoranda; investigatory reports and materials compiled for the purpose of enforcing immigration laws;

• Exhibits;

• Transcripts; and

• Other case-related papers concerning aliens, alleged aliens, or lawful permanent residents brought into the administrative adjudication process.

RECORD SOURCE CATEGORIES:

Records are obtained from several sources including: (A) agencies and entities seeking to determine U.S citizenship or immigration status of benefit applicants; (B) individuals seeking public licenses, benefits, or credentials; (C) other DHS components assisting with enrollment and system maintenance processes; (D) information created by SAVE; (E) state or national organizations issuing and maintaining driver's license or state identification information such as the NLETS; and (F) information collected and covered by the following USCIS, DHS, and other federal agency systems of records:

• DHS/USCIS/ICE/CBP-001 Alien File, Index, and National File Tracking System of Records, September 18, 2017 (FR 82 FR 43556);

• DHS/USCIS-007 Benefits Information System, October 10, 2019 (84 FR 54622);

• DHS/USCIS-010 Asylum Information and Pre-Screening System of Records, November 30, 2015 (80 FR 74781);

• DHS/USCIS-018 Immigration Biometric and Background Check (IBBC) Records System of Records, July 31, 2018 (83 FR 36950);

• DHS/CBP-005 Advance Passenger Information System (APIS), March 13, 2015 (80 FR 13407);

• DHS/CBP-006 Automated Targeting System, May 22, 2012 (77 FR 30297);

• DHS/CBP-007 CBP Border Crossing Information (BCI), December 13, 2016 (81 FR 89957);

• DHS/CBP-011 U.S. Customs and Border Protection TECS, December 19, 2008 (73 FR 77778);

• DHS/CBP-016 Nonimmigrant Information System, March 13, 2015 (80 FR 13398);

• DHS/CBP-021 Arrival and Departure Information System (ADIS), November 18, 2015 (80 FR 72081);

• DHS/ICE-001 DHS/ICE-001 Student and Visitor Exchange Program (SEVP), December 8, 2021 (86 FR 69663);

• DHS/ICE-011 Criminal Arrest Records and Immigration Enforcement Records (CARIER) System of Records, July 5, 2024 (89 FR 55638);

• DHS/ALL-003 Department of Homeland Security General Training Records, November 25, 2008 (73 FR71656);

• DHS/ALL-016 Correspondence Records, September 26, 2018 (83 FR 48645);

• JUSTICE/EOIR-002, Office of the Chief Administrative Hearing Officer (OCAHO) Case Management System (CMS) August 16, 2019 (84 FR 42016);

• STATE-05 Overseas Citizens Services Records and Other Overseas Records, November 20, 2023 (88 FR 80804);

• STATE-26 Passport Records, March 24, 2015 (80 FR 15653);

• STATE-39 Visa Records, November 8, 2021 (86 FR 61822) and

• SSA-60-0058 Master Files of Social Security Number Holders and Social Security Number Applications, February 20, 2025 (90 FR 10025)

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DHS as a routine use pursuant to 5 U.S.C. 552a(b)(3) as follows:

A. To the Department of Justice (DOJ), including the U.S. Attorneys Offices, or other federal agency conducting litigation or proceedings before any court, adjudicative, or administrative body, when it is relevant or necessary to the litigation and one of the following is a party to the litigation or has an interest in such litigation:

1. DHS or any component thereof;

2. Any employee or former employee of DHS in his/her official capacity;

3. Any employee or former employee of DHS in his/her individual capacity, only when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when (1) DHS suspects or has confirmed that there has been a breach of the system of records; (2) DHS has determined that as a result of the suspected or confirmed breach there is a risk of harm to individuals, DHS (including its information systems, programs, and operations), the Federal Government, or national security; and (3) the disclosure made to such agencies, entities, and persons is reasonably necessary to assist in connection with DHS's efforts to respond to the suspected or confirmed breach or to prevent, minimize, or remedy such harm.

F. To another Federal agency or Federal entity, when DHS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

G. To an appropriate federal, state, territorial, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

I. To approved federal, state, territorial, tribal, and local government agencies for any legally mandated purpose (e.g., benefits, licensing, voter verification) in accordance with their authorizing statute or law and when an approved agreement (e.g., Memorandum of Agreement (MOA) or Computer Matching Agreement (CMA) is in place between DHS and the entity.

J. To a federal, state, territorial, tribal, or local government agency that oversees or administers Federal means-tested public benefits for purposes of seeking reimbursement from sponsors for the value of benefits provided to sponsored applicants, as well as reporting on overall sponsor deeming and agency reimbursement efforts to appropriate administrative and oversight agencies.

K. To airport operators to determine the eligibility of individuals seeking unescorted access to any Security Identification Display Area of an airport, as required by the Federal Aviation Administration (FAA) Extension, Safety, and Security Act of 2016.

L. To the Social Security Administration and other federal, state, tribal, territorial, local, governments and other authorized entities to assist user agencies determine U.S. citizenship and immigration status of an individual when a DHS approved agreement is in place between DHS and the entity.

M. To federal, state, territorial, tribal, local, and other entities that have legal authority to provide oversight to programs and benefits supported by SAVE for auditing of program requirements and when a DHS-approved agreement (e.g., Memorandum of Agreement (MOA) or Computer Matching Agreement (CMA)) is in place between DHS and the entity.

N. To the news media and the public, with the approval of the Chief Privacy Officer in consultation with counsel, when there exists a legitimate public interest in the disclosure of the information, when disclosure is necessary to preserve confidence in the integrity of DHS, or when disclosure is necessary to demonstrate the accountability of DHS's officers, employees, or individuals covered by the system, except to the extent the Chief Privacy Officer determines that release of the specific information in the context of a particular case would constitute a clearly unwarranted invasion of personal privacy.

POLICIES AND PRACTICES FOR STORAGE OF RECORDS:

DHS/USCIS stores records in this system electronically or on paper in secure facilities in a locked drawer behind a locked door. The records may be stored on magnetic discs, tapes, and digital media. Additionally, information is located within the USCIS Verification Data Integration Service SAVE Program.

POLICIES AND PRACTICES FOR RETRIEVAL OF RECORDS

DHS/USCIS retrieves records by name of applicant or other unique identifier including, but not limited to Verification Case Number, Alien Registration Number (Alien Number or A-Number), I-94 Number, Social Security number, Passport number, Driver's license number, Visa number, Student and Exchange Visitor Information System Identification number, or by the submitting agency name.

POLICIES AND PRACTICES FOR RETENTION AND DISPOSAL OF RECORDS:

SAVE records are covered by NARA-approved records retention and disposal schedule, N1-566-08-07. Records collected in the process of enrolling in SAVE and in verifying U.S. citizenship or immigration status are stored and retained in SAVE for ten (10) years from the date of the completion of verification. However, if the records are part of an ongoing investigation, they will be retained until completion of the investigation and pursuant to the records retention schedule associated with the investigation. This initial 10-year period is based on the statute of limitations for most types of misuse or fraud possible using SAVE (under 18 U.S.C. 3291, the statute of limitations for false statements or misuse regarding passports, citizenship, or naturalization documents).

ADMINISTRATIVE, TECHNICAL, AND PHYSICAL SAFEGUARDS:

DHS/USCIS safeguards records in this system according to applicable rules and policies, including all applicable DHS automated systems security and access policies. USCIS has imposed strict controls to minimize the risk of compromising the information that is being stored. Access to the computer system containing the records in this system is limited to those individuals who have a need to know the information for the performance of their official duties and who have appropriate clearances or permissions.

RECORD ACCESS PROCEDURES:

Absent an authorized exception for disclosure exists, the U.S. Department of Homeland Security protects and withholds the Privacy Act of 1974/Judicial Redress Act of 2015 covered records by law for U.S. citizens, lawful permanent residents, and Judicial Redress Act covered persons from covered countries.

Individuals seeking access to and notification of any record contained in this system of records, or seeking to contest its content, may submit a request online at https://first.uscis.gov/ or submit a request in writing to the Chief Privacy Officer and to the USCIS FOIA/Privacy Act Officer whose contact information can be found at http://www.dhs.gov/foia under “Contacts Information.” If an individual believes more than one component maintains Privacy Act records concerning him or her, the individual may submit the request to the Chief Privacy Officer and Chief Freedom of Information Act Officer, Department of Homeland Security, Washington, DC 20528-0655. Even if neither the Privacy Act nor the Judicial Redress Act provide a right of access, certain records about him or her may be available under the Freedom of Information Act.

When an individual is seeking records about himself or herself from this system of records or any other Departmental system of records, the individual's request must conform with the Privacy Act regulations set forth in 6 CFR part 5. The individual must first verify his/her identity, meaning that the individual must provide his/her full name, current address, and date and place of birth. The individual must sign the request, and the individual's signature must either be notarized or submitted under 28 U.S.C. 1746, a law that permits statements to be made under penalty of perjury as a substitute for notarization. While no specific form is required, an individual may obtain forms for this purpose from the Chief Privacy Officer and Chief Freedom of Information Act Officer, http://www.dhs.gov/foia or 1-866-431-0486. In addition, the individual should:

• Explain why the individual believes the Department would have information on him/her;

• Identify which component(s) of the Department the individual believes may have the information about him/her;

• Specify when the individual believes the records would have been created; and

• Provide any other information that will help the FOIA staff determine which DHS component agency may have responsive records.

If an individual's request is seeking records pertaining to another living individual, the first individual must include a statement from the second individual certifying his/her agreement for the first individual to access his/her records.

Without the above information, the component(s) may not be able to conduct an effective search, and the individual's request may be denied due to lack of specificity or lack of compliance with applicable regulations.

CONTESTING RECORD PROCEDURES:

For records covered by the Privacy Act or covered the Judicial Redress Act records, see “Record Access Procedures” above. For records not covered by the Privacy Act or Judicial Redress Act, individuals may still amend their records at a USCIS Field Office by contacting the USCIS Contact Center at 1-800-375-5283 (TTY 800-767-1833) to request an appointment.

NOTIFICATION PROCEDURES:

See “Record Access Procedures.”

EXEMPTIONS PROMULGATED FOR THE SYSTEM:

None. However, when this system receives a record from another system exempted in that source system under 5 U.S.C. 552a, DHS will claim the same exemptions for those records that are claimed for the original primary systems of records from which they originated.

HISTORY:

85 FR 31798 (May 27, 2020); 81 FR 78619 (November 8, 2016); 76 FR 58525 (September 21, 2011); 73 FR 75445 (December 11, 2008); 73 FR 10793 (February 28, 2008); 72 FR 17569 (April 9, 2007); 67 FR 64134 (October 17, 2002); and 66 FR 46812 (September 7, 2001).

* * * * *

Roman Jankowski,
Chief Privacy Officer, U.S. Department of Homeland Security.

[FR Doc. 2025-19735 Filed 10-30-25; 8:45 am]

BILLING CODE 9111-97-P